DEPARTMENT OF HEALTH AND HUMAN SERVICES

National Institutes of Health

National Heart, Lung, and Blood Institute; Amended Notice of Meeting

Notice is hereby given of a change in the meeting of the National Heart, Lung, and Blood Advisory Council, October 24, 2023, 9 a.m. to October 24, 2023, 5 p.m., National Institutes of Health, Rockledge I, 6705 Rockledge Drive, Bethesda, MD 20892 which was published in the Federal Register on September 14, 2023, FR Doc. 2023-19906, 88 FRN 63116.

This notice is being amended to change the meeting time for National Heart, Lung, and Blood Advisory Council closed session on October 24, 2023 from 9 a.m. to 10 a.m. to 8 a.m. to 9 a.m. The meeting is partially closed to the public.

Dated: September 29, 2023.
Patricia B. Hansberger,
Supervisory Program Analyst, Office of Federal Advisory Committee Policy.

[FR Doc. 2023-22099 Filed 10-4-23; 8:45 am]

BILLING CODE 4140-01-P